DEPARTMENT OF THE TREASURY

Office of Foreign Assets Control

[ Case ID ZI-1991; ZI-3018]

Unblocking of Specially Designated Nationals and Blocked Persons Pursuant to Executive Order 13288, as Amended by Executive Order 13391

AGENCY: Office of Foreign Assets Control, Treasury.

ACTION: Notice.

SUMMARY: The Treasury Department's Office of Foreign Assets Control (“OFAC”') is publishing the names of eight individuals and one entity whose property and interests in property have been unblocked pursuant to Executive Order 13288 of March 6, 2003, “Blocking Property of Persons Undermining Democratic Processes or Institutions in Zimbabwe” as amended by Executive Order 13391 of November 22, 2005, “Blocking Property of Additional Persons Undermining Democratic Processes or Institutions in Zimbabwe.”

DATES: The unblocking and removal from the list of Specially Designated Nationals and Blocked Persons (“SDN List”) of the eight individuals and one entity identified in this notice whose property and interests in blocked pursuant to Executive 13288 of March 6, 2003, as amended by Executive Order 13391 of November 22, 2005, is effective on May 2, 2013.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On March 6, 2003, the President, invoking the authority of, inter alia, the International Emergency Economic Powers Act (50 U.S.C. 1701-06) (“IEEPA”) issued Executive Order 13288 (68 FR 11457, March 10, 2003). In Executive Order 13288, the President declared a national emergency to deal with the threat posed by the actions and policies of certain members of the Government of Zimbabwe and other persons to undermine Zimbabwe's democratic processes or institutions, contributing to the deliberate breakdown in the rule of law in Zimbabwe, to politically motivated violence and intimidation in that country, and to political and economic instability in the southern African region. The Annex to Executive Order 13288 included 77 individuals, including five of the eight individuals identified in this notice, which resulted in the blocking of all property and interests in property of these individuals that was or thereafter came within the United States or the possession or control of U.S. persons. Executive Order 13288 also authorized the Secretary of the Treasury, in consultation with the Secretary of State, to designate additional persons determined to meet the criteria set forth in Executive Order 13288.

On November 22, 2005, in order to take additional steps with respect to the continued actions and policies of certain persons who undermine Zimbabwe's democratic processes and with respect to the national emergency described and declared in Executive Order 13288, the President, invoking the authority of, inter alia, IEEPA, issued Executive Order 13391 (70 FR 71201, November 25, 2005). Executive Order 13391 amends Executive Order 13288 and provides that the Annex to Executive Order 13288 is replaced and superseded in its entirety by the Annex to Executive Order 13391, containing the names of 128 individuals and 33 entities, including the eight individuals and one entity identified in this notice. Executive Order 13288, as amended by Executive Order 13391, authorizes the Secretary of the Treasury, in consultation with the Secretary of State, to block the property and interests in property of additional categories of persons beyond the category set forth in Executive Order 13288 prior to its amendment.

Executive Order 13288, as amended by Executive Order 13991, also authorizes the Secretary of the Treasury, in consultation with the Secretary of State, to determine that circumstances no longer warrant the inclusion of a person in the Annex to Executive Order 13288, as replaced and superseded by the Annex to Executive Order 13991, and to unblock any property and interests in property that had been blocked as a result of the person's inclusion in the Annex.

On May 2, 2013, the Director of OFAC, in consultation with the State Department, determined that circumstances no longer warrant the inclusion of the individuals and entity listed below in the Annex to Executive Order 13288, as replaced and superseded by the Annex to Executive Order 13391, and that the property and interests in property of the individuals and entity listed below are therefore no longer blocked pursuant to section 1(a) of Executive Order 13288, as amended by Executive Order 13391, and accordingly removed them from the SDN List.

Individuals

1. CHIGUDU, Tinaye Elisha Nzirasha; DOB 13 Aug 1942; Passport AD000013 (Zimbabwe); Manicaland Provincial Governor (individual) [ZIMBABWE].

2. CHINDORI-CHININGA, Edward; DOB 14 Mar 1955; Passport AN388694 (Zimbabwe); Member of Parliament for Guruve South (individual) [ZIMBABWE].

3. KARIMANZIRA, David; DOB 25 May 1947; Harare Provincial Governor & Politburo Secretary for Finance (individual) [ZIMBABWE].

4. MANDIZHA, Barbara; DOB 24 Oct 1959; Deputy Police Commissioner (individual) [ZIMBABWE].

5. MUDENGE, Isack Stan Gorerazvo, 31 St. Brelades Road, Borrowdale, Harare, Zimbabwe; DOB 17 Dec 1948; Passport AD000964 (Zimbabwe); Minister of Higher and Tertiary Education (individual) [ZIMBABWE].

6. MUJURU, Solomon Tapfumaneyi Ruzambo (a.k.a. “NANGO, Rex”); DOB 01 May 1949; Passport ZD001348 (Zimbabwe); Politburo Senior Committee Member (individual) [ZIMBABWE].

7. PATEL, Khantibhal; DOB 28 Oct 1928; Politburo Deputy Secretary for Finance (individual) [ZIMBABWE].

8. TAWENGWA, Solomon; DOB 15 Jun 1940; Former Executive Mayor of Harare; Deceased (individual) [ZIMBABWE].

Entity

1. CALGARY FARM, Mazowe, Zimbabwe [ZIMBABWE].

Dated: May 2, 2013.
Adam J. Szubin,
Director, Office of Foreign Assets Control.

[FR Doc. 2013-11397 Filed 5-13-13; 8:45 am]

BILLING CODE 4810-AL-P